DEPARTMENT OF HOUSING AND URBAN DEVELOPMENT

24 CFR Part 985

[Docket No. FR-3986-N-03]

Section 8 Management Assessment Program (SEMAP); Lifting of Stay of Certain Regulatory Sections

AGENCY: Office of the Assistant Secretary for Public and Indian Housing, HUD.

ACTION: Final rule; lifting of stay.

SUMMARY: On September 10, 1998, HUD published its final rule for the Section 8 Management Assessment Program (SEMAP). The final rule took effect October 13, 1998, and § 985.102 (SEMAP profile); § 985.103 (SEMAP score and overall performance rating); §§ 985.105(a), 985.105(b), 985.105(d) and 985.105(e) (HUD SEMAP responsibilities); and § 985.107 (Required actions for PHA with troubled performance rating) were stayed until further notice. This document lifts the stay for these sections.

EFFECTIVE DATE: The stay is lifted for 24 CFR 985.102, 0985.103, 985.105(a), 985.105(b), 985.105(d), 985.105(e), and 985.107 as of August 1, 2000.

FOR FURTHER INFORMATION CONTACT: Gerald J. Benoit, Director, Real Estate and Housing Performance Division, Office of Public and Indian Housing, Department of Housing and Urban Development, Room 4220, 451 Seventh Street, SW, Washington, DC 20410-8000; telephone number (202) 708-0477 (this is not a toll-free telephone number). Hearing or speech impaired individuals may access this number via TTY by calling the toll-free Federal Information Relay Service at 1-800-877-8339.

SUPPLEMENTARY INFORMATION: On September 10, 1998 (63 FR 48548), HUD published its final rule for the Section 8 Management Assessment Program (SEMAP). SEMAP provides for objective measurement of the performance of a public housing agency (PHA) in key areas of the Section 8 tenant-based assistance program. SEMAP enables HUD to ensure program integrity and accountability by identifying PHA management capabilities and deficiencies and by improving risk assessment to effectively target monitoring and program assistance. PHAs can use the SEMAP performance analysis to assess their own program operations.

The “effective date” section of the September 10, 1998 final rule noted that the rule took effect October 13, 1998, with the following sections stayed as of October 13, 1998, until further notice: § 985.102 (SEMAP profile); § 985.103 (SEMAP score and overall performance rating); paragraphs (a), (b), (d) and (e) of § 985.105 (HUD SEMAP responsibilities), and § 985.107 (Required actions for PHA with troubled performance rating).

The preamble to the September 10, 1998 SEMAP final rule explained why these sections were stayed on October 13, 1998. The preamble explained that HUD would publish a Federal Register notice of the effective date of the full implementation of SEMAP when HUD determined that independent verification methods for the SEMAP indicators are properly implemented. (See 63 FR 48549, first column, second full paragraph.) HUD has determined that these methods have been properly implemented and this document provides notice that the stay is lifted on §§ 985.102, 985.103, 985.105(a), 985.105(b), 985.105(d), 985.105(e), and 985.107 as of August 1, 2000.

HUD expects that the first PHAs to be rated under SEMAP will be PHAs with fiscal years July 1, 1999 to June 30, 2000. The first ratings are expected to be assigned in fall 2000.

Dated: June 12, 2000.
Harold Lucas,
Assistant Secretary for Public and Indian Housing.

[FR Doc. 00-15342 Filed 6-19-00; 8:45 am]

BILLING CODE 4210-33-P